DEPARTMENT OF JUSTICE

28 CFR Part 16

[AAG/A Order No. 226-2001]

Privacy Act of 1974; Implementation

AGENCY: Department of Justice.

ACTION: Proposed rule.

SUMMARY: The Department of Justice proposes to exempt a Privacy Act System of records from subsections (c)(3) and (4), (d), (e)(1), (2), and (3), (e)(4)(G) and (H), (e)(5) and (8), and (g) of the Privacy Act, 5 U.S.C. 552a. This system of records is the Immigration and Naturalization Service (INS), “National Automated Immigration Lookout System (NAILS), JUSTICE/INS-032.”

NAILS facilitates INS in its inspection and investigation process. The automated system provides quick and easy retrieval of biographical or case data on persons who may be either inadmissible to the United States, or of interest to other Federal agencies.

The exemptions are necessary to avoid interference with law enforcement operations. Specifically, the exemptions are necessary to prevent subjects of investigations from frustrating the investigatory or other law enforcement process such as, deportation/removal proceedings.

DATES: Submit any comments by May 4, 2001.

ADDRESSES: Address all comments to Mary Cahill, Management Analyst, Management and Planning Staff, Justice Management Division, Department of Justice, Washington, DC 20530 (Room 1400 National Place Building).

FOR FURTHER INFORMATION CONTACT: Mary Cahill, 202-307-1823.

SUPPLEMENTARY INFORMATION: In the notice section of today's Federal Register, the Department of Justice provides a description of the “National Automated Immigration Lookout System (NAILS), JUSTICE/INS-032.”

This order relates to individuals rather than small business entities. Nevertheless, pursuant to the requirements of the Regulatory Flexibility Act 5 U.S.C. 601-612, it is hereby stated that the order will not have “a significant economic impact on a substantial number of small entities.”

List of Subjects in 28 CFR Part 16

Administrative Practices and Procedures, Courts, Freedom of Information Act, Government in the Sunshine Act, and the Privacy Act.

Dated: March 29, 2001.
Stephen R. Colgate,
Assistant Attorney General for Administration.

Pursuant to the authority vested in the Attorney General by 5 U.S.C. 552a and delegated to me by Attorney General Order No. 793-78, it is proposed to amend Part 16 of Title 28 of the Code of Federal Regulations as set forth below.

PART 16—[AMENDED]

The authority for Part 16 continues to read as follows:

Authority: 5 U.S.C. 301, 552, 552a, 552b(g), 553; 18 U.S.C. 4203(a)(1); 28 U.S.C. 509, 510, 534; 31 U.S.C. 3717.

2. It is proposed to amend § 16.99 by adding paragraph (a)(3) to read as follows:

§ 16.99 Exemption of the Immigration and Naturalization Service System-limited access.

(a) * * *

(3) The Immigration and Naturalization Service National Automated Immigration Lookout System (NAILS) JUSTICE/INS-032. The exemptions apply only to the extent that records in the system are subject to exemptions pursuant to 5 U.S.C. 552a(j)(2) and (k)(2).

* * * * *

[FR Doc. 01-8286 Filed 4-3-01; 8:45 am]

BILLING CODE 4410-10-M